DEPARTMENT OF COMMERCE

Submission for OMB Review; Comment Request

The Department of Commerce will submit to the Office of Management and Budget (OMB) for clearance the following proposal for collection of information under the provisions of the Paperwork Reduction Act (44 U.S.C. chapter 35).

Agency: National Telecommunications and Information Administration (NTIA).

Title: NTIA Broadband Technology Opportunities Program Post-Award Quarterly and Annual Performance Progress Reports.

OMB Control Number: 0660-0037.

Form Number(s): None.

Type of Request: Regular submission (revision and extension of a currently approved information collection).

Burden Hours:

Infrastructure and Comprehensive Community Infrastructure Reports (Quarterly and Annually)

Number of Respondents: 123.

Estimated Number of Responses per Respondent: 5.

Estimated Number of Responses: 615.

Average Burden Hours per Response: 4.80.

Estimated Total Annual Burden Hours: 2,952.

Public Computer Center Reports (Quarterly and Annually)

Number of Respondents: 65.

Estimated Number of Responses per Respondent: 5.

Estimated Number of Responses: 325.

Average Burden Hours per Response: 4.1.

Estimated Total Annual Burden Hours: 1,333.

Sustainable Broadband Adoption Application Reports (Quarterly and Annually)

Number of Respondents: 45.

Estimated Number of Responses per Respondent: 5.

Estimated Number of Responses: 225.

Average Burden Hours per Response: 3.78.

Estimated Total Annual Burden Hours: 851.

Need and Uses: NTIA collects performance progress information specific to Infrastructure and Comprehensive Community Infrastructure, Public Computer Center, and Sustainable Broadband Adoption BTOP grant recipients in order to effectively monitor, manage and evaluate individual projects and the overall success of the program in achieving statutory goals and objectives. Quarterly performance progress reports ask a series of questions that broadly address project progress and monitoring needs of program personnel by obtaining actual information on quarterly and cumulative project and milestone progress, and potential project barriers, if any. Annual performance progress reports ask a series of questions that broadly address BTOP programmatic objectives and outcomes, program compliance requirements, and the information needs of external audiences, such as OMB.

Affected Public: Businesses or other for-profit organizations; not-for-profit institutions; and State, local, or Tribal government organizations.

Frequency: Quarterly and annually.

Respondent's Obligation: Required to retain benefits.

OMB Desk Officer: Nicholas Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Nicholas Fraser, OMB Desk Officer, FAX number (202) 395-5806, or via the Internet at Nicholas_A_Fraser@omb.eop.gov.

Dated: November 15, 2010.
Gwellnar Banks,
Management Analyst, Office of the Chief Information Officer.

[FR Doc. 2010-29157 Filed 11-18-10; 8:45 am]

BILLING CODE 3510-60-P